NUCLEAR REGULATORY COMMISSION

[NRC-2009-0187]

Notice of Availability of Draft Environmental Impact Statement and Public Meeting for the AREVA Enrichment Services, LLC Proposed Eagle Rock Uranium Enrichment Facility

AGENCY: Nuclear Regulatory Commission.

ACTION: Notice of Availability of Draft Environmental Impact Statement.

SUMMARY: Notice is hereby given that the U.S. Nuclear Regulatory Commission (NRC) is issuing for public comment the Draft Environmental Impact Statement (EIS) for the proposed AREVA Enrichment Services LLC (AES) Eagle Rock Enrichment Facility (EREF). On December 30, 2008, AES submitted a license application to the NRC that proposes the construction, operation, and decommissioning of a gas centrifuge-based uranium enrichment facility on a presently undeveloped site near Idaho Falls in Bonneville County, Idaho (the “proposed action”). The license application included an Environmental Report (ER) regarding the proposed action.

AES subsequently submitted revisions to the license application on April 23, 2009 (Revision 1) and April 30, 2010 (Revision 2), which included ER Revision 1 and ER Revision 2, respectively. License application Revision 1 addresses the expansion of the proposed EREF to increase its production capacity from 3.3 million Separative Work Units (SWUs) per year to 6.6 million SWUs per year; and ER Revision 1 includes information on the environmental impacts of the proposed 6.6-million-SWU EREF. Revision 2 to the license application and the ER incorporates into Revision 1 additional information that was previously provided by AES to NRC in response to NRC staff Requests for Additional Information for its safety and environmental reviews, as well as supplemental information on a proposed electrical transmission line required to power the proposed EREF. On March 17, 2010, the NRC granted an exemption authorizing AES to conduct certain preconstruction activities (e.g., site preparation) on the proposed EREF site prior to issuance of the NRC license.

This Draft EIS is being issued as part of the NRC's process to decide whether to issue a license to AES, pursuant to Title 10 of the U.S. Code of Federal Regulations (10 CFR) Parts 30, 40, and 70 to build and operate the proposed uranium enrichment facility. Specifically, AES proposes to use gas centrifuge technology to enrich the uranium-235 isotope found in natural uranium to concentrations up to 5 percent by weight. The enriched uranium would be used to manufacture nuclear fuel for commercial nuclear power reactors.

The NRC staff will hold a public meeting on August 12, 2010, to present an overview of the licensing process and the contents of the Draft EIS, and to accept oral and written public comments on the Draft EIS. The meetings will take place at The Red Lion Hotel on the Falls Convention Center in Idaho Falls, Idaho. For one hour prior to the public meeting, the NRC staff will be available to informally discuss the proposed EREF project and answer questions in an “open house” format. This “open house” format provides for one-on-one discussions with the NRC staff involved with the preparation of the Draft EIS. The Draft EIS public meeting will officially begin at 7:30 p.m. The meeting will include the following agenda items: (1) A brief presentation summarizing NRC's roles and responsibilities and the licensing process, (2) a presentation summarizing the contents of the Draft EIS, and (3) an opportunity for interested government agencies, Tribal governments, organizations, and individuals to provide comments on the Draft EIS. The public meeting will be transcribed by a court reporter, and the meeting transcript will be made publicly available at a later date.

Persons wishing to provide oral comments at the public meeting may register in advance by contacting Ms. Tarsha Moon at (800) 362-5642, ext. 6745, no later than August 6, 2010. Those who wish to present comments may also register at the meeting. Individual oral comments may have to be limited by the time available, depending upon the number of persons who register. Written comments can also be provided at the meeting, and should be given to an NRC staff person at the registration desk at the meeting entrance. If special equipment or accommodations are needed to attend or present information at the public meeting, the need should be brought to the attention of Ms. Tarsha Moon at (800) 362-5642, ext. 6745, no later than August 6, 2010, to provide NRC staff with adequate notice to determine whether the request can be accommodated. Please note that comments do not have to be provided at the public meeting and may be submitted at any time during the comment period, as described in the DATES section of this notice. Any interested party may submit comments on the Draft EIS for consideration by NRC staff. Comments may be submitted by any of the methods described in the ADDRESSES section of this notice.

DATES: The public comment period on the Draft EIS begins on the date of publication of the U.S. Environmental Protection Agency's (EPA's) Federal Register (FR) Notice of Filing and ends on September 13, 2010. To ensure consideration, comments on the Draft EIS and the proposed action must be received or postmarked by September 13, 2010. The NRC staff will consider comments received or postmarked after that date to the extent practical.

The NRC will conduct a public meeting in Idaho Falls, Idaho. The meeting date, time, and location are listed below:

Meeting Date: August 12, 2010.

Meeting Location: Red Lion Hotel on the Falls Convention Center, 475 River Parkway, Idaho Falls, ID 83402.

Informal Open House Session: 6:30-7:30 p.m.

Draft EIS Comment Meeting: 7:30-10 p.m.

ADDRESSES: You may submit comments by any one of the following methods. Please include Docket ID NRC-2009-0187 in the subject line of your comments.

Electronic Mail: Comments may be e-mailed to EagleRock.EIS@nrc.gov.

Federal Rulemaking Web site: Go to http://www.regulations.gov and search for documents filed under Docket ID NRC-2009-0187. Comments may be submitted electronically through this Web site. Address questions about NRC dockets to Carol Gallagher at 301-492-3668, or e-mail at Carol.Gallagher@nrc.gov.

Mail comments to: Cindy Bladey, Chief, Rules, Announcements and Directives Branch (RADB), Division of Administrative Services, Office of Administration, Mail Stop: TWB-05-B01M, U.S. Nuclear Regulatory Commission, Washington, DC 20555-0001, or by fax to RADB at (301) 492-3446.

Comments submitted in writing or in electronic form will be posted on the NRC Web site and on the Federal rulemaking Web site http://www.regulations.gov. Unless your comments contain sensitive information typically not released to the public by NRC policy, the NRC will make all comments publically available. Because your comments will not be edited to remove any identifying information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Document Availability: Publicly available documents related to this notice can be accessed using any of the methods described in this section. One appendix of the Draft EIS contains Sensitive Unclassified Non-Safeguards Information (SUNSI) and has been withheld from public inspection in accordance with 10 CFR 2.390, Availability of Public Records. This appendix contains proprietary business information as well as security-related information. The NRC staff has considered the information in this appendix in forming the conclusions presented in the publicly-available version of the document. Procedures for obtaining access to SUNSI were published in the NRC's Notice of Hearing and Commission Order (75 FR 1819).

NRC's Public Document Room (PDR): The public may examine and have copied, for a fee, publicly available documents related to the EREF project at the NRC's PDR, located at One White Flint North, 11555 Rockville Pike (first floor), Rockville, Maryland 20852. Members of the public can contact the NRC's PDR reference staff by calling 1-800-397-4209, by faxing a request to 301-415-3548, or by e-mail to pdr.resource@nrc.gov. Hard copies of the documents are available from the PDR for a fee.

EREF Web site: Documents related to this notice are also available on the NRC's AREVA Enrichment services, LLC Gas Centrifuge Facility Web site at http://www.nrc.gov/materials/fuel-cycle-fac/arevanc.html.

NRC's Agencywide Documents Access and Management System (ADAMS): Members of the public can access the NRC's ADAMS at http://www.nrc.gov/reading-rm/adams.html. From this Web site, enter the accession numbers included here for AES's license application and ER Revision 2 (ADAMS Accession Number: ML101610549), the exemption authorizing certain preconstruction activities (ADAMS Accession Number: ML093090152), and NRC's Draft EIS (ADAMS Accession Number: ML101890384).

Federal Rulemaking Web site: Public comments and supporting materials related to this notice can be found at http://www.regulations.gov by searching on Docket ID: NRC-2009-0187.

The Draft EIS for the EREF also may be accessed on the Internet at http://www.nrc.gov/reading-rm/doc-collections/nuregs/staff/ by selecting “NUREG-1945.” Additionally, a copy of the Draft EIS will be available at the Idaho Falls Public Library, 457 West Broadway, Idaho Falls, ID 83402, (208) 612-8460.

FOR FURTHER INFORMATION CONTACT: For information about the Draft EIS or the environmental review process, please contact Stephen Lemont at (301) 415-5163 or Stephen.Lemont@nrc.gov. For general or technical information associated with the licensing review of the EREF application, please contact Breeda Reilly at (301) 492-3110 or Breeda.Reilly@nrc.gov.

SUPPLEMENTARY INFORMATION: The Draft EIS was prepared in response to an application submitted by AES dated December 30, 2008, and application revisions dated April 23, 2009, and April 30, 2010. The application and revisions propose the construction, operation, and decommissioning of the proposed EREF, to be located near Idaho Falls, Idaho. The Draft EIS was prepared by the NRC and its contractor, Argonne National Laboratory (Argonne), in compliance with the National Environmental Policy Act of 1969, as amended (NEPA), and the NRC's regulations for implementing NEPA (10 CFR Part 51).

The application AES submitted to the NRC is for a license to possess and use byproduct material, source material, and special nuclear material at a proposed gas centrifuge uranium enrichment facility near Idaho Falls, which is located 20 miles east-southeast of the site in Bonneville County, Idaho. The proposed EREF would be located on an approximately 460-acre section of a 4200-acre undeveloped parcel of land that it intends to purchase from a single private landowner.

The Draft EIS is being issued as part of the NRC's process to decide whether to issue a license to AES, pursuant to 10 CFR Parts 30, 40, and 70. In this Draft EIS, the NRC staff has assessed the potential environmental impacts from the preconstruction, construction, operation, and decommissioning of the proposed EREF. Specifically, AES proposes to use gas centrifuge-based technology to enrich the uranium-235 isotope found in natural uranium to concentrations up to 5 percent by weight. The enriched uranium would be used to manufacture nuclear fuel for commercial nuclear power reactors.

The NRC staff published a Notice of Intent to prepare an Environmental Impact Statement for the proposed EREF and to conduct a scoping process in the Federal Register on May 4, 2009 (74 FR 20508). The NRC staff accepted comments through June 19, 2009. The NRC staff issued a Scoping Summary Report in September 2009 (ADAMS Accession Number: ML092540617).

The NRC staff assessed the impacts of the proposed action on land use, historical and cultural resources, visual and scenic resources, air quality, geology and soils, water resources, ecological resources, noise, transportation, public and occupational health, waste management, socioeconomics, and environmental justice. Additionally, the Draft EIS analyzes and compares the benefits and costs of the proposed action.

Based on the preliminary evaluation in the Draft EIS, the NRC environmental review staff has concluded that the environmental impacts that would result from the proposed action and associated preconstruction activities on the physical environment and human communities would mostly be small, with the exception of: (1) Moderate impacts on an historic and cultural resource associated with ground disturbance; (2) moderate impacts on visual and scenic resources due to the contrast of facility structures with the surrounding visual environment; (3) moderate impacts on vegetation and wildlife due primarily to removal of sagebrush steppe and pasture vegetation; (4) small to moderate impacts related to increased traffic density (primarily from commuting workers) on US Highway 20; and (5) short-term, moderate to large impacts associated with fugitive dust released to the air during ground disturbing activities.

In addition to the action proposed by AES, the NRC staff considered the no-action alternative and other alternatives considered but eliminated from further analysis. Under the no-action alternative, the NRC would deny AES's request to construct and operate a uranium enrichment facility at the EREF site. The no-action alternative serves as a baseline for comparison of the potential environmental impacts of the proposed action. The alternatives considered but eliminated from further analysis include: (1) Alternative sites other than the proposed Bonneville County site; (2) alternative sources of enriched uranium; and (3) alternative technologies available for uranium enrichment. These alternatives were eliminated from further analysis due to economic, environmental, national security, technological maturity, or other reasons. The Draft EIS also discusses alternatives for the disposition of depleted uranium hexafluoride (UF6) resulting from enrichment operations over the lifetime of the proposed EREF.

After weighing the impacts, costs, and benefits of the proposed action and comparing alternatives, the NRC staff, in accordance with 10 CFR 51.71(e), set forth its preliminary recommendation regarding the proposed action. The NRC staff preliminarily recommends that, unless safety issues mandate otherwise, the proposed action should be approved (i.e., NRC should issue a license).

The Draft EIS is a preliminary analysis of the environmental impacts of the proposed action and its alternatives. The Final EIS and any decision documentation regarding the proposed action will not be issued until public comments on the Draft EIS have been received and evaluated. Comments received on the Draft EIS will be addressed in the Final EIS. Notice of the availability of the Final EIS will be published in the Federal Register. The Final EIS is scheduled to be issued in February 2011.

The NRC staff in the Office of Nuclear Material Safety and Safeguards, Division of Fuel Cycle Safety and Safeguards, is currently completing the safety review of AES's license application. The safety review is currently scheduled for completion in August 2010.

This Draft EIS is being issued for public comment. The public comment period on the Draft EIS begins with publication of the EPA Notice of Filing discussed earlier and continues until September 13, 2010. Written comments should be submitted as described in the ADDRESSES section of this notice. The NRC will consider comments received or postmarked after that date to the extent practical.

Dated at Rockville, Maryland this 14th day of July 2010.
For the Nuclear Regulatory Commission.
Keith I. McConnell,
Deputy Director, Decommissioning and Uranium Recovery Licensing Directorate, Division of Waste Management and Environmental Protection, Office of Federal and State Materials and Environmental Management Programs.

[FR Doc. 2010-17788 Filed 7-20-10; 8:45 am]

BILLING CODE 7509-01-P